DEPARTMENT OF HEALTH AND HUMAN SERVICES

Centers for Medicare & Medicaid Services

[Document Identifier: CMS-359, 360, R-55; CMS-368, R-144; CMS-643, CMS-R-305, CMS 10174, and CMS-10097]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Comprehensive Outpatient Rehabilitation Facility (CORF) Eligibility and Survey Forms and Information Collection Requirements at 42 CFR 485.56, 485.58, 485.60, 485.64, 485.66 and 410.105; Use: In order for a provider to participate in the Medicare program as a CORF, a provider must meet the Federal conditions of participation. The form CMS-359 is utilized as an application for facilities wishing to participate in the Medicare/Medicaid program as CORFs. This form initiates the process of obtaining a decision as to whether the conditions of participation are met. The form CMS-360 is an instrument used by the State survey agency to record data collected in order to determine the provider compliance with individual conditions of participation and to report it to the Federal Government; Form Numbers: CMS-359, 360, R-55 (OMB#: 0938-0267); Frequency: Reporting—On occasion; Affected Public: State, local, or tribal government and business or other for-profit; Number of Respondents: 630; Total Annual Responses: 630; Total Annual Hours: 300,046.

2. Type of Information Collection Request: Revision of a currently approved collection; Title of Information Collection: State Medicaid Drug Rebate; Use: Section 1927 of the Social Security Act requires each State Medicaid agency to report quarterly prescription drug utilization information to drug manufacturers and to the Centers for Medicare and Medicaid Services. As part of this information, the State Medicaid agencies are required to report the total Medicaid rebate amount they claim they are owed by each drug manufacturer for each covered prescription drug product each quarter; Form Numbers: CMS-368, R-144 (OMB#: 0938-0582); Frequency: Reporting—Quarterly; Affected Public: State, Local, or Tribal government; Number of Respondents: 51; Total Annual Responses: 204; Total Annual Hours: 9,389.

3. Type of Information Collection Request: Extension of a currently approved collection; Title of Information Collection: Hospice Survey and Deficiencies Report Form and Supporting Regulations at 42 CFR 442.30 and 488.26; Use: In order to participate in the Medicare program, a hospice must meet certain Federal health and safety conditions of participation. This form is used by State surveyors to record data about a hospice's compliance with these conditions of participation in order to initiate the certification or recertification process; Form Number: CMS-643 (OMB#: 0938-0379); Frequency: Reporting—Annually; Affected Public: Not-for-profit institutions and Business or other for-profit; Number of Respondents: 2,293; Total Annual Responses: 475; Total Annual Hours: 238.

4. Type of Information Collection Request: Extension of a currently approved collection; Title of Information Collection: External Quality Review for Medicaid Managed Care Organizations (MCOs); Form Number: CMS-R-305 (OMB#: 0938-0786); Use: The results of Medicare reviews, Medicare accreditation surveys, and Medicaid external quality reviews will be used by States in assessing the quality of care provided to Medicaid beneficiaries provided by MCOs and to provide information on the quality of the care provided to the general public upon request; Frequency: Annually; Affected Public: Business or other for-profit, State, Local and or Tribal Government; Number of Respondents: 542; Total Annual Responses: 14,266; Total Annual Hours: 648,877.

5. Type of Information Collection Request: Extension Collection; Title of Information Collection: Collection of Prescription Drug Data from MA-PD, PDP and Fallout Plans/Sponsors for Medicare Part D Payments; Use: The Medicare Prescription Drug Improvement and Modernization Act (MMA) requires Medicare payment to Medicare Advantage (MA) organizations, prescription drug plans (PDP) sponsors, Fallbacks, and other plan sponsors offering coverage of outpatient prescription drugs under the new Medicare Part D benefit. The MMA provided four summary mechanisms for paying plans: Direct subsidies, subsidized coverage for qualifying low-income individuals, Federal reinsurance subsidies, and risk corridor payments. In order to make payment in accordance with these provisions, CMS has determined it needs to collect a limited set of data elements for 100 percent of prescription drug claims or events from plans offering Part D coverage. The transmission of the statutorily required data will be in an electronic format. The information users will be Pharmacy Benefit Managers (PBM), third party administrators and pharmacies, and the PDPs, MA-PDs, Fallbacks, and other plan sponsors that offer coverage of outpatient prescription drugs under the new Medicare Part D benefit to Medicare beneficiaries. The statutorily required data will be used primarily for payment, claims validation, quality monitoring, and program integrity and oversight; Form Number: CMS-10174 (OMB#: 0938-0982); Frequency: Monthly, Quarterly and Annually; Affected Public: Business or other for-profit, and Not-for-profit institutions; Number of Respondents: 455; Total Annual Responses: 2,418,000,000; Total Annual Hours: 4,836.

6. Type of Information Collection Request: Extension of a currently approved collection; Title of Information Collection: Medicare Contractor Provider Satisfaction Survey (MCPSS); Form No.: CMS-10097 (OMB# 0938-0915); Use: The Centers for Medicare & Medicaid Services will obtain feedback from over 30,000 Medicare providers via a survey about satisfaction, attitudes and perceptions regarding the services provided by Medicare Fee-for-Service (FFS) Carriers, Fiscal Intermediaries, Durable Medical Equipment Suppliers, and Regional Home Health Intermediaries and Medicare Administrative Contractors. The survey focuses on basic business functions provided by the Medicare Contractors such as inquiries, provider communications, claims processing, appeals, provider enrollment, medical review and provider audit & reimbursement. Providers will receive a notice requesting they use a specially constructed Web site to respond to a set of questions customized for their contractor's responsibilities. The survey will be conducted yearly and annual reports of the survey results will be available via an online reporting system for use by CMS, Medicare Contractors, and the general public; Frequency: Reporting—Anually; Affected Public: Business or other for-profit, Not-for-profit institutions; Number of Respondents: 20,514; Total Annual Responses: 20,514; Total Annual Hours: 7209.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: April 12, 2006.
Michelle Shortt,
Director, Regulations Development Group, Office of Strategic Operations and Regulatory Affairs.

[FR Doc. E6-5832 Filed 4-20-06; 8:45 am]

BILLING CODE 4120-01-P